DEPARTMENT OF COMMERCE

Foreign-Trade Zones Board

[B-46-2019]

Foreign-Trade Zone 213—Ft. Myers, Florida; Application for Reorganization Under Alternative Site Framework

An application has been submitted to the Foreign-Trade Zones (FTZ) Board by the Lee County Port Authority, grantee of FTZ 213, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on July 25, 2019.

FTZ 213 was approved by the FTZ Board on June 5, 1996 (Board Order 814, 61 FR 30593, June 17, 1996). The current zone includes the following sites: Site 1 (2,938 acres)—Southwest Florida International Airport, 11000 Terminal Access Road, Suite 8671, Ft. Myers; Site 2 (640 acres)—Page Field, 5200 Captain Channing Page Drive, Ft. Myers; Site 3 (59 acres)—Immokalee Airport, Airport Road and State Road 846, Immokalee; Site 4 (60 acres)—Charlotte County Airport Industrial Park, 2800 Airport Road, Punta Gorda; Site 5 (18 acres)—Portside Development, Inc., 17051 Highway 31, North Ft. Myers; Site 6 (144 acres)—Viscaya Industrial Park, located between the Nackinac Canal to the west, SE 9th Street/Viscaya Parkway to the north, Del Prado Blvd. to the east and the Montevideo and Rubicon Canals to the south, Cape Coral; and, Site 7 (93 acres)—North Cape Industrial Park, Andalusia Blvd. and NE 24th Lane, Cape Coral.

The grantee's proposed service area under the ASF would be Charlotte, Collier and Lee Counties, Florida, as described in the application. If approved, the grantee would be able to serve sites throughout the service area based on companies' needs for FTZ designation. The application indicates that the proposed service area is within and adjacent to the Ft. Myers, Florida, U.S. Customs and Border Protection port of entry.

The applicant is requesting authority to reorganize its existing zone to include all of the existing sites as “magnet” sites. The ASF allows for the possible exemption of one magnet site from the “sunset” time limits that generally apply to sites under the ASF, and the applicant proposes that Site 1 be so exempted. No subzones/usage-driven sites are being requested at this time.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is September 30, 2019. Rebuttal comments in response to material submitted during the foregoing period may be submitted during the subsequent 15-day period to October 15, 2019.

A copy of the application will be available for public inspection in the “Reading Room” section of the FTZ Board's website, which is accessible via www.trade.gov/ftz. For further information, contact Christopher Kemp at Christopher.Kemp@trade.gov or (202) 482-0862.

Dated: July 25, 2019.
Elizabeth Whiteman,
Acting Executive Secretary.

[FR Doc. 2019-16323 Filed 7-30-19; 8:45 am]

BILLING CODE 3510-DS-P